DEPARTMENT OF COMMERCE

International Trade Administration

[C-570-971]

Multilayered Wood Flooring From the People's Republic of China: Notice of Court Decision Not in Harmony With the Results of Countervailing Duty Administrative Review; Notice of Amended Final Results

AGENCY: Enforcement and Compliance, International Trade Administration, Department of Commerce.

SUMMARY: On August 29, 2025, the U.S. Court of International Trade (CIT) issued its final judgment in Evolutions Flooring, Inc. et al. v. United States, Consol. Court No. 21-00591, sustaining the U.S. Department of Commerce (Commerce)'s remand results pertaining to the administrative review of the countervailing duty (CVD) order on multilayered wood flooring from the People's Republic of China (China) covering the period January 1, 2018, through December 31, 2018. Commerce is notifying the public that the CIT's final judgment is not in harmony with Commerce's final results of the administrative review, and that Commerce is amending the final results with respect to the countervailable subsidy rate assigned to Jiangsu Senmao Bamboo Wood Industry Co., Ltd. (Jiangsu Senmao), Riverside Plywood Corporation (Riverside Plywood) and its cross-owned affiliate Baroque Timber Industries (Zhongshan) Co., Ltd. (Baroque Timber), and the non-selected companies under review.

DATES: Applicable September 8, 2025.

FOR FURTHER INFORMATION CONTACT: Jonathan Schueler or Laurel Smalley, AD/CVD Operations, Office VIII, Enforcement and Compliance, International Trade Administration, U.S. Department of Commerce, 1401 Constitution Avenue NW, Washington, DC 20230; telephone: (202) 482-9175 or (202) 482-3456, respectively.

SUPPLEMENTARY INFORMATION:

Background

On October 27, 2021, Commerce published its Final Results in the 2018 CVD administrative review of multilayered wood flooring from China. Commerce applied facts available with an adverse inference (AFA), pursuant to section 776(b) of the Tariff Act of 1930, as amended (the Act), to the Government of China (GOC) with respect to the Export Buyer's Credit Program (EBCP), to find that both mandatory respondents under review (i.e., Jiangsu Senmao and Riverside Plywood) used and benefited from the program during the POR.¹ Additionally, with respect to the Provision of Fiberboard and Veneers (including face and backboard veneer) for Less Than Adequate Remuneration (LTAR) programs, Commerce evaluated the adequacy of remuneration of Baroque Timber's purchases of fiberboard and veneer on a batch basis to calculate the average unit value (AUV) for the respondent's fiberboard and face veneer purchases.²

¹ See Multilayered Wood Flooring from the People's Republic of China: Final Results and Partial Rescission of Countervailing Duty Administrative Review; 2018, 86 FR 59362 (October 27, 2021) (Final Results), and accompanying Issues and Decision Memorandum (IDM) at Comment 1.

² Id. at Comment 11.

After analyzing alleged ministerial errors in the Final Results, on December 1, 2021, Commerce published the Amended Final Results to correct certain ministerial errors in Commerce's benchmark calculations under the Provision of Plywood and Fiberboard for LTAR programs, in addition to correcting a spelling error in the corresponding U.S. Customs and Border Protection (CBP) instructions to the Final Results.³

³ See Multilayered Wood Flooring from the People's Republic of China: Notice of Amended Final Results of Countervailing Duty Administrative Review, 86 FR 68219 (December 1, 2021) (Amended Final Results) and accompanying Memorandum, “Allegations of Ministerial Errors in the Final Results,” dated November 23, 2021.

Evolutions Flooring, Inc. and Struxtur, Inc. et al. appealed Commerce's Final Results. On March 27, 2025, the CIT remanded the Final Results to Commerce, granting Commerce's request for a voluntary remand to further evaluate its use of AFA to find that Jiangsu Senmao used the EBCP and to correct an error in the benefit calculation of the Provision of Veneers for LTAR program.⁴

⁴ See Evolutions Flooring, Inc. et al. v. United States, Consol. Court No. 21-00591, Slip Op. 25-33 (March 27, 2025).

In its final remand redetermination, issued on July 9, 2025, Commerce found that Jiangsu Senmao did not use the EBCP during the POR and corrected Commerce's error in the benefit calculation for Baroque Timber under the Provision of Veneers for LTAR program.⁵ The CIT sustained Commerce's final remand redetermination.⁶

⁵ See Final Results of Remand Redetermination Pursuant to Court Remand, Evolutions Flooring, Inc. et al. v. United States, Consol. Court No. 21-00591, Slip Op. 25-33 (CIT 2025), dated July 9, 2025 (final remand redetermination), available at https://access.trade.gov/public/FinalRemandRedetermination.

⁶ See Evolutions Flooring, Inc. et al. v. United States, Consol. Court No. 21-00591, Slip Op. 25-33 (August 29, 2025).

Timken Notice

In its decision in Timken,⁷ as clarified by Diamond Sawblades,⁸ the U.S. Court of Appeals for the Federal Circuit held that, pursuant to sections 516A(c) and (e) of the Act, Commerce must publish a notice of court decision that is not “in harmony” with a Commerce determination and must suspend liquidation of entries pending a “conclusive” court decision. The CIT's August 29, 2025, judgment constitutes a final decision of the CIT that is not in harmony with Commerce's Final Results. Thus, this notice is published in fulfillment of the publication requirements of Timken.

⁷ See Timken Co. v. United States, 893 F.2d 337 (Fed. Cir. 1990) (Timken).

⁸ See Diamond Sawblades Manufacturers Coalition v. United States, 626 F.3d 1374 (Fed. Cir. 2010) (Diamond Sawblades).

Amended Final Results

Because there is now a final court judgment, Commerce is amending its Final Results and Amended Final Results with respect to Jiangsu Senmao and Riverside Plywood as follows:

Producer/exporter | Subsidy rate (percent ad valorem)
Riverside Plywood Corporation and Its Cross-Owned Affiliates ⁹ | 9.02
Jiangsu Senmao Bamboo Wood Industry Co., Ltd | 5.29
Non-selected companies under review ¹⁰ | 7.91

Cash Deposit Requirements

Commerce will issue revised cash deposit instructions to CBP. Because the companies listed in Appendix I of this notice have a superseding cash deposit rate (i.e., there have been final results published in a subsequent administrative review), we will not issue revised cash deposit instructions to CBP. This notice will not affect the current cash deposit rate for those exporters/producers. For Dailan Shengyu Science and Technology Development Co., Ltd., which does not have a superseding cash deposit rate, Commerce will issue revised cash deposit instructions to CBP.

⁹ Cross-owned affiliate are Baroque Timber Industries (Zhongshan) Co., Ltd. and Suzhou Times Flooring Co., Ltd.

¹⁰ The non-selected companies to which this rate applies are listed in Appendix II.

Liquidation of Suspended Entries

At this time, Commerce remains enjoined by the CIT order from liquidating entries that: were produced and/or exported by Riverside Plywood Corporation, including its cross-owned affiliates; Jiangsu Senmao Bamboo Wood Industry Co., Ltd.; and the companies listed in Appendix II of this notice, and were entered, or withdrawn from warehouse, for consumption during the period January 1, 2018, through December 31, 2018. These entries will remain enjoined pursuant to the terms of the injunction during the pendency of any appeals process.

In the event the CIT's ruling is not appealed or, if appealed, upheld by a final and conclusive court decision, Commerce intends to instruct CBP to assess countervailing duties on unliquidated entries of subject merchandise produced and/or exported by the companies listed in Appendix II of this notice in accordance with 19 CFR 351.212(b). We will instruct CBP to assess countervailing duties on all appropriate entries covered by this review when the ad valorem rate is not zero or de minimis. Where an ad valorem subsidy rate is zero or de minimis,¹¹ we will instruct CBP to liquidate the appropriate entries without regard to countervailing duties.

¹¹ See 19 CFR 351.106(c)(2).

Notification to Interested Parties

This notice is issued and published in accordance with sections 516A(c) and (e) and 777(i)(1) of the Act.

Dated: September 10, 2025.
Christopher Abbott,
Deputy Assistant Secretary for Policy and Negotiations, performing the non-exclusive functions and duties of the Assistant Secretary for Enforcement and Compliance.

Appendix I

List of Companies With Superseding Cash Deposit Requirements

1. Baroque Timber Industries (Zhongshan) Co., Ltd. and/or Riverside Plywood Corp.

2. Dalian Shumaike Floor Manufacturing Co., Ltd.

3. Dongtai Fuan Universal Dynamics, LLC

4. Dunhua City Jisen Wood Industry Co., Ltd.

5. Fine Furniture (Shanghai) Limited

6. Huzhou Chenghang Wood Co., Ltd.

7. Huzhou Sunergy World Trade Co., Ltd.

8. Jiangsu Guyu International Trading Co., Ltd.

9. Jiashan Huijiale Decoration Material Co., Ltd.

10. Jiangsu Senmao Bamboo and Wood Industry Co., Ltd.

11. Jiangsu Simba Flooring Co., Ltd.

12. Kemian Wood Industry (Kunshan) Co., Ltd.

13. Kingman Floors Co., Ltd.

14. Linyi Anying Wood Co., Ltd.

15. Scholar Home (Shanghai) New Material Co., Ltd.

16. Sino-Maple (Jiangsu) Co., Ltd.

17. Tongxiang Jisheng Import and Export Co., Ltd.

18. Yihua Lifestyle Technology Co., Ltd.

19. Zhejiang Dadongwu Green Home Wood Co., Ltd.

20. Zhejiang Fuerjia Wooden Co., Ltd.

21. Zhejiang Jiechen Wood Industry Co., Ltd.

Appendix II

List of Non-Selected Companies Subject to These Amended Final Results

1. Dailan Shengyu Science and Technology Development Co., Ltd.

2. Dalian Shumaike Floor Manufacturing Co., Ltd.

3. Dongtai Fuan Universal Dynamics, LLC

4. Dunhua City Jisen Wood Industry Co., Ltd.

5. Fine Furniture (Shanghai) Limited

6. Huzhou Chenghang Wood Co., Ltd.

7. Huzhou Sunergy World Trade Co., Ltd.

8. Jiangsu Guyu International Trading Co., Ltd.

9. Jiashan Huijiale Decoration Material Co., Ltd.

10. Jiangsu Simba Flooring Co., Ltd.

11. Kemian Wood Industry (Kunshan) Co., Ltd.

12. Kingman Floors Co., Ltd.

13. Linyi Anying Wood Co., Ltd.

14. Scholar Home (Shanghai) New Material Co., Ltd.

15. Sino-Maple (Jiangsu) Co., Ltd.

16. Tongxiang Jisheng Import and Export Co., Ltd.

17. Yihua Lifestyle Technology Co., Ltd.

18. Zhejiang Dadongwu Green Home Wood Co., Ltd.

19. Zhejiang Fuerjia Wooden Co., Ltd.

20. Zhejiang Jiechen Wood Industry Co., Ltd.

[FR Doc. 2025-17777 Filed 9-12-25; 8:45 am]

BILLING CODE 3510-DS-P